DEPARTMENT OF AGRICULTURE

Agricultural Marketing Service

[Doc. No. AMS-FGIS-20-0010]

Designation for the South Carolina Area

AGENCY: Agricultural Marketing Service, USDA.

ACTION: Notice.

SUMMARY: The Agricultural Marketing Service (AMS) is announcing the designations of D.R. Schaal Agency, Inc. (Schaal) and the North Carolina Department of Agriculture and Consumer Services (NCDA) to provide official services under the United States Grain Standards Act (USGSA), as amended.

DATES: January 1, 2020.

FOR FURTHER INFORMATION CONTACT: Jacob Thein, (816) 866-2223 or FGISQACD@usda.gov.

Read Applications: If you would like to view the applications, please contact us at FGISQACD@usda.gov.

SUPPLEMENTARY INFORMATION: In the June 25, 2019, Federal Register (84 FR 29839), AMS requested applications for designation to provide official services in the South Carolina area. Applications were due by July 25, 2019.

The official agencies, South Carolina Department of Agriculture (SCDA), Schaal, and NCDA, applied for designation to provide official services in the South Carolina area. SCDA applied for the entire state of South Carolina; however, withdrew its application on December 11, 2019. Schaal applied for Aiken, Allendale, Bamberg, Barnwell, Beaufort, Charleston, Colleton, Edgefield, Hampton, and Jasper Counties. NCDA applied for Chesterfield, Darlington, Dillon, Florence, Horry, Kershaw, Lancaster, Lee, Marion, and Marlboro Counties.

AMS evaluated each application against the designation criteria in section 7(f) of the USGSA (7 U.S.C. 79(f)) and determined that Schaal and NCDA are qualified to provide official services in the geographic area specified in the Federal Register on June 25, 2019. As such, the Federal Grain Inspection Service (FGIS) has designated Schaal and NCDA to provide official services in the specified areas of South Carolina, effective January 1, 2020, to September 30, 2021. Because Schaal and NCDA only requested, in their application, to service a total of twenty counties in South Carolina, twenty-six counties remained unassigned. In order to provide official services to customers throughout the entire state of South Carolina, FGIS has arranged for Schaal and NCDA to provide official services for those counties. Because SCDA withdrew its application to provide official services, this designation has a retroactive effective date as of January 1, 2020.

Schaal's geographic area is amended effective January 1, 2020, as follows:

Pursuant to Section 7(f)(2) of the USGSA, the following geographic area, in the states of Georgia, Iowa, Minnesota, New Jersey, New York, and South Carolina, is assigned to this official agency:

In Georgia

The entire State.

In Iowa

Bound on the north by the northern Kossuth County line from U.S. Route 169; the northern Winnebago, Worth, and Mitchell County lines; bound on the east by the eastern Mitchell County line; the eastern Floyd County line south to B60; B60 west to T64; T64 south to State Route 188; State Route 188 south to C33; bound on the south by C33 west to T47; T47 north to C23; C23 west to S56; S56 south to C25; C25 west to U.S. Route 65; U.S. Route 65 south to State Route 3; State Route 3 west to S41; S41 south to C55; C55 west to Interstate 35; Interstate 35 southwest to the southern Wright County line; the southern Wright County line west to U.S. Route 69; U.S. Route 69 north to C54; C54 west to State Route 17; and bound on the west by State Route 17 north to the southern Kossuth County line; the Kossuth County line west to U.S. Route 169; U.S. Route 169 north to the northern Kossuth County line.

In Minnesota

Faribault, Freeborn, and Mower Counties.

In New Jersey

The entire State.

In New York

The entire State, except those export port locations, which are serviced by FGIS.

In South Carolina

Abbeville, Aiken, Allendale, Anderson, Bamberg, Barnwell, Beaufort, Berkeley, Calhoun, Charleston, Clarendon, Colleton, Dorchester, Edgefield, Fairfield, Georgetown, Greenwood, Hampton, Jasper, Laurens, Lexington, McCormick, Newberry, Oconee, Orangeburg, Richland, Saluda, Sumter, and Williamsburg Counties.

The following grain elevators are not part of this geographic area assignment and are assigned to Sioux City Inspection and Weighing Service Company: Agvantage F.S., Chapin, Franklin County and Five Star Coop, Rockwell, Cerro Gordo County, Iowa; Maxyield Coop, Algona, Kossuth County; Stateline Coop, Burt, Kossuth County; Gold-Eagle, Goldfield, Wright County; and North Central Coop, Holmes, Wright County, Iowa.

The designation to provide official services in the specified area by Schaal remains effective from October 1, 2016, to September 30, 2021.

NCDA's geographic area is amended effective January 1, 2020, as follows:

Pursuant to Section 7(f)(2) of the USGSA, the following geographic area, in the states of North Carolina and South Carolina, is assigned to this official agency.

In North Carolina

The entire State.

In South Carolina

Cherokee, Chester, Chesterfield, Darlington, Dillon, Florence, Greenville, Horry, Kershaw, Lancaster, Lee, Marion, Marlboro, Pickens, Spartanburg, Union, and York Counties.

The designation to provide official services in the specified area by NCDA remains effective from October 1, 2016, to September 30, 2021.

Interested persons may obtain official services by contacting these agencies at the following telephone numbers:

Official agency | Headquarters location and telephone | Designation start | Designation end
Schaal | Belmond, IA, (641) 444-3122 | 10/1/2016 | 9/30/2021
NCDA | Raleigh, NC, (919) 707-3000 | 10/1/2016 | 9/30/2021

Section 7(f) of the USGSA authorizes the Secretary to designate a qualified applicant to provide official services in a specified area after determining that the applicant is better able than any other applicant to provide such official services (7 U.S.C. 79(f)).

Authority: 7 U.S.C. 71-87k.

Bruce Summers,
Administrator, Agricultural Marketing Service.

[FR Doc. 2020-11905 Filed 6-2-20; 8:45 am]

BILLING CODE P